DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On October 7, 2022, OFAC determined that the property and interests in property subject to U.S. jurisdiction of the following persons are blocked under the relevant sanctions authority listed below.

Individual

1. CHING, Teo Boon (a.k.a. CHING, Dato Sri Teo Boon), No. 65 Jalan Ledang, Taman Johor Tampoi, Johor Bahru, Johor 81200, Malaysia; DOB 24 Nov 1964; nationality Malaysia; Gender Male; National ID No. 641124015977 (Malaysia) (individual) [TCO] (Linked To: TEO BOON CHING WILDLIFE TRAFFICKING TRANSNATIONAL CRIMINAL ORGANIZATION).

Entities

1. SUNRISE GREENLAND SDN. BHD., No. 164-A, Room 1, Jalan Layang 16, Taman Perling, Johor Bahru, Johor 81200, Malaysia; 533 A, Jalan Persiaran Perling 1, Taman Perling, Johor Bahru, Johor 81200, Malaysia; Organization Established Date 16 Dec 2011; Company Number 971882-V (Malaysia); alt. Company Number 201101043762 (Malaysia) [TCO] (Linked To: CHING, Teo Boon).

2. TEO BOON CHING WILDLIFE TRAFFICKING TRANSNATIONAL CRIMINAL ORGANIZATION, Malaysia; Thailand; Laos; Vietnam; China; Hong Kong, China; Target Type Criminal Organization [TCO].

Dated: October 7, 2022.
Andrea Gacki,
Director, Office of Foreign Assets Control.

[FR Doc. 2022-25881 Filed 11-25-22; 8:45 am]

BILLING CODE 4810-AL-P